DEPARTMENT OF COMMERCE

Foreign-Trade Zones Board

[S-132-2012]

Approval of Subzone Status; Pepsi Cola Puerto Rico Distributing, LLC, Toa Baja, Puerto Rico

On December 7, 2012, the Executive Secretary of the Foreign-Trade Zones (FTZ) Board docketed an application submitted by the Puerto Rico Industrial Development Company, grantee of FTZ 7, requesting subzone status subject to the existing activation limit of FTZ 7, on behalf of Pepsi Cola Puerto Rico Distributing, LLC.

The application was processed in accordance with the FTZ Act and Regulations, including notice in the Federal Register inviting public comment (77 FR 74170, 12/13/2012). The FTZ staff examiner reviewed the application and determined that it meets the criteria for approval.

Pursuant to the authority delegated to the FTZ Board's Executive Secretary (15 CFR Sec. 400.36(f)), the application to establish Subzone 7N is approved, subject to the FTZ Act and the Board's regulations, including Section 400.13, and further subject to FTZ 7's 2,000-acre activation limit.

Dated: April 2, 2013.
Andrew McGilvray,
Executive Secretary.

[FR Doc. 2013-08130 Filed 4-5-13; 8:45 am]

BILLING CODE 3510-DS-P